DEPARTMENT OF COMMERCE

National Oceanic and Atmospheric Administration

RIN 0648-XA437

New England Fishery Management Council; Public Meeting

AGENCY: National Marine Fisheries Service (NMFS), National Oceanic and Atmospheric Administration (NOAA), Commerce.

ACTION: Notice; public meeting.

SUMMARY: The New England Fishery Management Council (Council) is scheduling a public meeting of its Monkfish Oversight Committee meeting to consider actions affecting New England fisheries in the exclusive economic zone (EEZ). Recommendations from this group will be brought to the full Council for formal consideration and action, if appropriate.

DATES: The meeting will be held on Wednesday, June 1, 2011, at 9 a.m.

ADDRESSES: The meeting will be held at the Best Western Wynwood Hotel, 580 US Highway 1, Interstate Traffic Circle, Portsmouth, NH 03801; telephone: (603) 436-7600; fax: (603) 436-7600.

Council address: New England Fishery Management Council, 50 Water Street, Mill 2, Newburyport, MA 01950.

FOR FURTHER INFORMATION CONTACT: Paul J. Howard, Executive Director, New England Fishery Management Council; telephone: (978) 465-0492.

SUPPLEMENTARY INFORMATION: The New England and Mid-Atlantic Councils have declared their intent to consider catch shares management for the monkfish fishery and have held a round of scoping hearings on Amendment 6 for that purpose. After reviewing public comment, the Committee directed the staff to prepare a white paper discussing the issues and considerations in developing either separate management programs for Northern and Southern Management Areas, or separating the Monkfish Fishery Management Plan into two separate plans. At this meeting, the Committee will review the white paper and develop recommendations to the Councils on how to proceed with Amendment 6.

The Committee will also review NMFS' Strategic Plan for Cooperative Research 2011-2014. NMFS will hold a public comment session in conjunction with the NEFMC's June Council meeting, at which time Committee comments will be presented.

Although non-emergency issues not contained in this agenda may come before this group for discussion, those issues may not be the subject of formal action during this meeting. Action will be restricted to those issues specifically listed in this notice and any issues arising after publication of this notice that require emergency action under section 305(c) of the Magnuson-Stevens Act, provided the public has been notified of the Council's intent to take final action to address the emergency.

Special Accommodations

This meeting is physically accessible to people with disabilities. Requests for sign language interpretation or other auxiliary aids should be directed to Paul J. Howard, Executive Director, at (978) 465-0492, at least 5 days prior to the meeting date.

Authority: 16 U.S.C. 1801 et seq.

Dated: May 11, 2011.
Tracey L. Thompson,
Acting Director, Office of Sustainable Fisheries, National Marine Fisheries Service.

[FR Doc. 2011-11906 Filed 5-13-11; 8:45 am]

BILLING CODE 3510-22-P